SECURITIES AND EXCHANGE COMMISSION

[File No. 500-1]

In the Matter of Neuromama, Ltd.; Order of Suspension of Trading

August 15, 2016.

It appears to the Securities and Exchange Commission that the public interest and the protection of investors require a suspension of trading in the securities of Neuromama, Ltd, Inc. (CIK No. 0001542918) because of concerns regarding the accuracy and adequacy of information in the marketplace about, among other things, the identity of the persons in control of the company's operations and management, false statements to company shareholders and/or potential investors that the company has an application pending for listing on the NASDAQ Stock Market, and potentially manipulative transactions in the company's stock. Neuromama, Ltd. is a Nevada corporation with its principal place of business listed as Playas de Rosarito, Baja California, Mexico, with stock quoted on OTC Link (previously “Pink Sheets”) operated by OTC Markets Group, Inc. under the ticker symbol NERO.

The Commission is of the opinion that the public interest and the protection of investors require a suspension of trading in the securities of the above-listed company.

THEREFORE, IT IS ORDERED, pursuant to Section 12(k) of the Securities Exchange Act of 1934, that trading in the securities of the above-listed company is suspended for the period from 9:30 a.m. EDT, on August 15, 2016, through 11:59 p.m. EDT, on August 26, 2016.

By the Commission.
Lynn M. Powalski,
Deputy Secretary.

[FR Doc. 2016-19718 Filed 8-15-16; 4:15 pm]

BILLING CODE 8011-01-P